PRESIDIO TRUST

Proposed Trial Use Limits

AGENCY: The Presidio Trust.

Action: Notice of proposed trial use limits and request for comments.

SUMMARY: The Presidio Trust (“Trust”) is announcing its proposal to undertake trial temporary traffic-calming and reduction measures for a period up to 45 days in that portion of The Presidio of San Francisco under the Trust's administrative jurisdiction (“Area B”), including temporary road closures of certain roads, in order to assess various means that may slow traffic through Area B and reduce cut-through traffic. The Trust is also announcing its termination of the trial temporary public use limits no later than 45 days after they commence.

Background: In the 2002 Presidio Trust Management Plan, the Trust committed to mitigate traffic impacts as Area B occupancy increased and visitation grew. The Trust has implemented a number of strategies and an array of traffic-calming measures. In March 2009, the Trust took traffic counts at all Presidio gates which allowed the Trust to ascertain what percentage of the cars entering the Presidio simply drove through the park and out another gate. The Trust determined that, while the Trust appears to have succeeded in managing traffic generated by park residents, tenants and visitors, and that the Presidio has sufficient capacity for traffic generated by anticipated Presidio land uses, cut-through traffic has become a major issue representing approximately 50% of the traffic in Area B. With the anticipated transformation of Doyle Drive, the landscape of the Presidio will be changing and new traffic patterns will emerge. As part of the planning effort required to prepare for these new traffic impacts, the Trust proposes to undertake a park-wide traffic management study commencing approximately September 29, 2009 and lasting no longer than 45 days.

This trial limitation of public use and resulting study will help the Trust in implementing its management responsibilities and in avoiding conflicts among resident, tenant and visitor activities by allowing the Trust to analyze the effects of measures that are intended to slow traffic and to discourage cut-through traffic on Area B's major streets and gateways and through the Presidio's residential neighborhoods. In particular, it will help the Trust plan for the effect the new Doyle Drive/Girard Street interchange may have on the use of Area B streets for cut-through traffic. Further, as implementation of the Presidio's Trail and Bikeways Master Plan continues, the Trust expects the numbers of pedestrian and cyclists using the park to increase. Ensuring the safety of this growing population means prioritizing the traffic movements of park users over traffic unrelated to park uses.

SUPPLEMENTARY INFORMATION: Under 36 CFR 1001.5, the Board of Directors of the Presidio Trust (“Board”) may close all or a portion of Area B to all public use or to a specific use or activity, given a determination that such action is necessary for the maintenance of public health and safety, the protection of environmental or scenic values, or the avoidance of conflict among visitor use activities. The Board has determined that the trial temporary traffic-calming and reduction measures, including temporary road closures of certain roads for a period up to 45 days commencing approximately September 29, 2009, will afford the Trust the opportunity to study and monitor the effects (both positive and negative) of these actions. By this notice, the Trust is also announcing its intent to terminate these public use limits no later than 45 days after they commence. The Board has authorized these trial temporary public use limits in Resolution 09-19.

FOR FURTHER INFORMATION CONTACT: Public Affairs (415.561.5418), The Presidio Trust, 34 Graham St., P.O. Box 29052, San Francisco, CA 94129-0052.

Comments: All written comments must be received by the Trust no later than September 21, 2009. Address all written comments to: Karen A. Cook, General Counsel, The Presidio Trust, 34 Graham St., P.O. Box 29052, San Francisco, CA 94129-0052. All public comments submitted to the Trust will be considered, and this proposal may be modified accordingly. The final decision of the Trust will be published in the Federal Register.

If individuals submitting comments request that their name and/or address be withheld from public disclosure, it will be honored to the extent allowable by law. Such requests must be stated prominently at the beginning of the comments. There also may be circumstances wherein the Trust will withhold a respondent's identity as allowable by law. The Trust will make available for public inspection all submissions from organizations or businesses and from persons identifying themselves as representatives or officials of organizations and businesses. Anonymous comments may not be considered.

Dated: August 14, 2009.
Karen A. Cook,
General Counsel.

[FR Doc. E9-20030 Filed 8-19-09; 8:45 am]

BILLING CODE 4310-4R-P